DEPARTMENT OF ENERGY

Environmental Management Site-Specific Advisory Board, Portsmouth

AGENCY: Department of Energy.

ACTION: Notice of cancellation of open meeting.

SUMMARY: On August 16, 2016, the Department of Energy (DOE) published a notice of open meeting scheduled for September 8, 2016, of the Environmental Management Site-Specific Advisory Board, Portsmouth. This notice announces the cancellation of this meeting. The meeting is being cancelled because the board will not have a quorum due to scheduling conflicts by members. The next regular meeting will be held on October 6, 2016.

DATES: The meeting scheduled for September 8, 2016, announced in the August 16, 2016, issue of the Federal Register (FR Doc. 2016-19423, 81 FR 54570), is cancelled. The next regular meeting will be held on October 6, 2016.

FOR FURTHER INFORMATION CONTACT: Greg Simonton, Alternate Deputy Designated Federal Officer, Department of Energy Portsmouth/Paducah Project Office, Post Office Box 700, Piketon, Ohio 45661, (740) 897-3737, Greg.Simonton@lex.doe.gov.

Issued at Washington, DC, on August 24, 2016.
LaTanya R. Butler,
Deputy Committee Management Officer.

[FR Doc. 2016-20788 Filed 8-29-16; 8:45 am]

BILLING CODE 6405-01-P